DEPARTMENT OF TRANSPORTATION

Federal Aviation Administration

[Summary Notice No. PE-2001-25]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion of omission of information in the summary is intended to affect the legal status of any petition or its final disposition.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, DC, on March 22, 2001.
Donald P. Byrne,
Assistant Chief Counsel for Regulations.

Disposition of Petitions

Docket No.: FAA-2001-8881.

Petitioner: Mr. Allen Banen.

Section of 14 CFR Affected: 14 CFR § 91.109(a) and (b)(3).

Description of Relief Sought/Disposition: To permit Mr. Banen to conduct certain flight instruction and simulated instrument flight to meet recent instrument experience requirements in Beechcraft Baron and Bonanza airplanes equipped with a functioning throwover control wheel in place of functioning dual controls.

Grant, 03/14/2001, Exemption No. 7467

Docket No.: FAA-2001-8612.

Petitioner: Mr. William L. Hale.

Section of 14 CFR Affected: 14 CFR § 91.109(a) and (b)(3).

Description of Relief Sought/Disposition: To permit Mr. Hale to conduct certain flight instruction and simulated instrument flights to meet recent instrument experience requirements in certain Beechcraft airplanes equipped with a functioning throwover control wheel in place of functioning dual controls.

Grant, 03/13/2001, Exemption No. 6897A

Docket No.: FAA-2000-8528.

Petitioner: Popular Rotocraft Association, Inc.

Section of 14 CFR Affected: 14 CFR § 91.319(a)(1) and (2).

Description of Relief Sought/Disposition: To permit PRA and its member flight instructors to conduct certain types of training in an experimental gyroplane for compensation or hire.

Grant, 03/13/2001, Exemption No. 5209G

Docket No.: FAA-2001-8425.

Petitioner: Aero Sports Connection, Inc.

Section of 14 CFR Affected: 14 CFR § 103.1(a) and (e)(1) through (e)(4).

Description of Relief Sought/Disposition: To permit individuals authorized by ASC to give instruction in powered ultralights that have a maximum empty weight of not more than 496 pounds, have a maximum fuel capacity of not more than 10 U.S. gallons, are not capable of more than 75 knots calibrated airspeed at full power in level flight, and have a power-off stall speed that does not exceed 35 knots calibrated airspeed.

Grant, 03/13/2001, Exemption No. 6080D

Docket No.: FAA-2001-8754.

Petitioner: Everts Air Fuel, Inc.

Section of 14 CFR Affected: 14 CFR § 91.9(a).

Description of Relief Sought/Disposition: To permit EAF to operate its McDonnell Douglas DC-6 aircraft, registration Nos. N451CE and N4390F, at a 5-percent-increased zero fuel weight and landing weight for operating all-cargo aircraft to provide supplies to people in isolated villages in Alaska.

Grant, 03/13/2001, Exemption No. 4296H

Docket No.: FAA-2001-8749.

Petitioner: Vanderpool Flying Service.

Section of 14 CFR Affected: 14 CFR § 135.143(c)(2).

Description of Relief Sought/Disposition: To permit VFS to operate certain aircraft under part 135 without a TSO-C112 (Mode S) transponder installed in the aircraft.

Grant, 03/09/2001, Exemption No. 7462

Docket No.: FAA-2001-8755.

Petitioner: Mr. John Thomas Gaitskill.

Section of 14 CFR Affected: 14 CFR §§ 135.251, 135.255, 135.353, and appendixes I and J to part 121.

Description of Relief/Disposition: To permit Mr. Gaitskill to conduct a local sightseeing flight in the vicinity of Chicago, Illinois, as part of an auction benefiting the Combined Federal Campaign charities in the Chicago area, at a date and time to be determined by him and the recipient(s) of the flight, for compensation or hire, without complying with certain anti-drug and alcohol misuse prevention requirements of part 135.

Grant, 03/09/2001, Exemption No. 7463

Docket No.: FAA-2001-8864.

Petitioner: Tucson Chapter of the Ninety-Nines, Inc.

Section of 14 CFR Affected: 14 CFR §§ 135.251, 135.255, 135.353, and appendixes I and J to part 121.

Description of Relief Sought/Disposition: To permit Tucson 99s to conduct local sightseeing flights at Tucson International Airport for its one-day Ten-Cents-A-Pound charity airlift event in late March 2001 or early April 2001, for compensation or hire, without complying with certain anti-drug and alcohol misuse prevention requirements of part 135.

Grant, 03/09/2001, Exemption No. 7461

Docket No.: FAA-2001-8966.

Petitioner: M. Shannon & Associates.

Section of 14 CFR Affected: 14 CFR §§ 91.9(a) and 91.531(a) (1) and (2)

Description of Relief Sought/Disposition: To permit Shannon and certain operators of Cessna Model 500, 550, and S550 Citation airplanes to operate those airplanes without a pilot designated as second in command.

Grant, 03/16/2001, Exemption No. 6480D

Docket No.: FAA-2000-8152.

Petitioner: Delta Air Lines, Inc.

Section of 14 CFR Affected: 14 CFR § 121.310(m).

Description of Relief Sought/Disposition: To permit Delta to operate certain L-1011-385-3 airplanes without conforming to the 60-foot required distance between emergency exits.

Grant, 03/16/2001, Exemption No. 5301E

Docket No.: FAA-2001-8987.

Petitioner: The Boeing Company.

Section of 14 CFR Affected: 14 CFR § 91.515(a)(1)

Description of Relief Sought/Disposition: To permit Boeing to conduct noise measurement tests, Ground Proximity Warning System research and development, and aircraft certification tests at altitudes less than 1,000 feet above the surface of 1,000 feet from any mountain, hill, or other obstruction to flight.

Grant, 03/16/2001, Exemption No. 4783G

Docket No.: 28097.

Petitioner: Columbia Helicopters, Inc.

Section of 14 CFR Affected: 14 CFR §§ 133.19(a)(3) and 1335.51

Description of Relief Sought/Disposition: To permit CHI to conduct external-load operations in the United States using Canadian-registered rotorcraft.

Grant, 03/13/2001, Exemption No. 6045C

Docket No.: 29436.

Petitioner: Airlines Representative Europe dba Airport Services S.R.L.

Section of 14 CFR Affected: 14 CFR 145.37(b)

Description of Relief Sought/Disposition: To permit Airport Services to apply for an FAA repair station certificate without having suitable permanent housing for at least one of the heaviest aircraft within the weight class of the rating it seeks.

Grant, 03/08/2001, Exemption No. 7458

Docket No.: 29964.

Petitioner: Certified Aviation Service, Inc.

Section of 14 CFR Affected: 14 CFR §§ 145.35 and 145.37

Description of Relief Sought/Disposition: To allow CAS to install smoke detection and fire suppression kits in aircraft cargo compartments without providing suitable permanent housing for at least one of the heaviest aircraft for which it is rated.

Grant, 03/08/2001, Exemption No. 7459

Docket No.: 29541.

Petitioner: Drake & Drake, Inc.

Section of 14 CFR Affected: 14 CFR § 43.3(g)

Description of Relief Sought/Disposition: To permit Drake's pilot to update the Northstar M3 global positioning system (GPS) unit in its Beechcraft Super King Air 200 airplane operated under 14 CFR part 135.

Denial, 03/08/2001, Exemption No. 7460

[FR Doc. 01-7501 Filed 3-26-01; 8:45 am]

BILLING CODE 4910-13-M